OFFICE OF GOVERNMENT ETHICS

Study Evaluating, and Making Recommendations for Improving, the Financial Disclosure Process for Employees of the Executive Branch; Opportunity for Comment

AGENCY: Office of Government Ethics (OGE).

ACTION: Notice.

SUMMARY: The Office of Government Ethics is conducting a study, pursuant to the Intelligence Reform and Terrorism Prevention Act of 2004, to evaluate and recommend improvements to the public financial disclosure process for employees of the executive branch. This notice indicates the pendency of OGE's study and provides the public and agencies the opportunity to comment.

DATES: Any comments from the public and the agencies must be received by February 11, 2005.

ADDRESSES: You may submit comments to OGE on the study by any of the following methods:

• E-mail: usoge@oge.gov. For E-mail messages, the subject line should include the following reference: “Comments Regarding Financial Disclosure Process Study.”

• FAX: 202-482-9237.

• Mail, Hand Delivery or Courier: Office of Government Ethics, Suite 500, 1201 New York Avenue, NW., Washington, DC 20005-3917, Attention: Ira S. Kaye, Associate General Counsel.

FOR FURTHER INFORMATION CONTACT: Ira S. Kaye, Associate General Counsel, Office of Government Ethics, telephone: 202-482-9300; TDD: 202-482-9293; FAX: 202-482-9237.

SUPPLEMENTARY INFORMATION: Section 8403 of the Intelligence Reform and Terrorism Prevention Act of 2004, Public Law 108-458 (December 17, 2004), directs the Office of Government Ethics to provide a report to Congress, within 90 days, evaluating the financial disclosure process for employees of the executive branch, and recommending improvements to it. In order to comply with this mandate, OGE has undertaken a study of this subject. OGE's report will focus on whether to recommend amending the body of information that is statutorily required to be included on the Standard Form (SF) 278 Executive Branch Personnel Public Financial Disclosure Report, as well as whether to recommend changes to the public financial disclosure system itself. Specifically, OGE will analyze whether to recommend changing: the number of asset, income, transaction and liability valuation categories; the various reporting time periods; the dollar thresholds for reporting particular assets, income, transactions and liabilities; the requirements to report most transactions, to identify the type of income earned, and to report the actual dollar amounts of particular types of income; and the level of description and detail required, particularly on Schedules C (liabilities and agreements or arrangements) and D (outside positions and compensation over $5,000) of the SF 278 report form.

As part of its consideration of these important matters, OGE believes it would be both appropriate and helpful to give the public and agencies an opportunity to express their views. Interested persons may submit comments to OGE, to be received by February 11, 2005, regarding any specific part of the financial disclosure process study or just to give general views on the study in order to assist OGE.

Approved: January 7, 2005.
Marilyn L. Glynn,
Acting Director, Office of Government Ethics.

[FR Doc. 05-710 Filed 1-12-05; 8:45 am]

BILLING CODE 6345-02-P